DEPARTMENT OF ENERGY

Federal Energy Regulatory Commission

[Project No. 13224-000]

KW Sackheim Development; Notice of Preliminary Permit Application Accepted for Filing and Soliciting Comments, Motions To Intervene, and Competing Applications

August 14, 2009.

On May 12, 2008, KW Sackheim Development filed an application for a preliminary permit, pursuant to section 4(f) of the Federal Power Act, proposing to study the feasibility of the Jackson Meadows Dam Project, located on the Middle Yuba River, in Nevada County, California. The proposed site is a non-generating feature of the Nevada Irrigation District's Yuba-Bear Project, FERC No. P-2266. The sole purpose of a preliminary permit, if issued, is to grant the permit holder priority to file a license application during the permit term. A preliminary permit does not authorize the permit holder to perform any land-disturbing activities or otherwise enter upon lands or waters owned by others without the owners' express permission.

Jackson Meadows Development

The proposed project would consist of the following:

(1) An existing 1,530 foot-long, 195foot-high embankment dam; (2) an existing reservoir having a surface area of 738 acres and a storage capacity of 52,500 acre-feet; (3) one penstock consisting of an existing 42-inch-diameter pipe, 240 feet in length; (4) a new powerhouse containing one new generating unit having an installed capacity of 2.5 megawatts; and (5) a proposed 8,000-foot-long, 60-kva power transmission line. The proposed Jackson Meadows Development would have an average annual generation of 8.7 gigawatt-hours.

Applicant Contact: Kelly Sackheim, Principal, KW Sackheim Development, 5096 Cocoa Palm Way, Fair Oaks, CA 95628; phone: 916-962-2271.

FERC Contact: Joseph P. Hassell, 202-502-8049.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13224) in the docket number field to access the document. For assistance, call toll-free 1-866-208-3372.

Kimberly D. Bose,
Secretary.

[FR Doc. E9-20215 Filed 8-21-09; 8:45 am]

BILLING CODE 6717-01-P